DEPARTMENT OF THE INTERIOR

Fish and Wildlife Service

[FWS-HQ-MB-2020-N052; FF09M21200-190-FXMB1231099BPP0; OMB Control Number 1018-0022]

Agency Information Collection Activities; Submission to the Office of Management and Budget for Review and Approval; Federal Fish and Wildlife Permit Applications and Reports—Migratory Birds

AGENCY: Fish and Wildlife Service, Interior.

ACTION: Notice of information collection; request for comment.

SUMMARY: In accordance with the Paperwork Reduction Act, we, the U.S. Fish and Wildlife Service, are proposing to renew an existing information collection with revisions.

DATES: Interested persons are invited to submit comments on or before June 18, 2020.

ADDRESSES: Send written comments on this information collection request to the Office of Management and Budget's Desk Officer for the Department of the Interior by email at OIRA_Submission@omb.eop.gov; or via facsimile to (202) 395-5806. Please provide a copy of your comments to the Service Information Collection Clearance Officer, U.S. Fish and Wildlife Service, MS: PRB/PERMA (JAO), 5275 Leesburg Pike, Falls Church, VA 22041-3803 (mail); or by email to Info_Coll@fws.gov. Please reference OMB Control Number “1018-0022” in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.), we, the U.S. Fish and Wildlife Service (Service, we), are proposing to renew an existing information collection with revisions.

In accordance with the PRA, we provide the general public and other Federal agencies with an opportunity to comment on new, proposed, revised, and continuing collections of information. This helps us assess the impact of our information collection requirements and minimize the public's reporting burden. It also helps the public understand our information collection requirements and provide the requested data in the desired format.

On October 28, 2019, we published in the Federal Register (84 FR 57746) a notice of our intent to request that OMB approve this information collection. In that notice, we solicited comments for 60 days, ending on December 27, 2019. We received the following comments in response to that notice:

Comment 1: Comment received via email on October 31, 2019:

The commenter states that the current application process is quite cumbersome and archaic, and that annual reporting is difficult. The commenter indicated they are reporting two different ways, using both the online system and the Excel spreadsheet form. They asked if they could capture all the reporting information through the online (IMR) system only.

Agency Response to Comment 1: We talked with the company about the duplicate reporting they appeared to be doing. We clarified that they should not be required to submit the information twice in two different forms, and made sure they would only be using the online system in the future. We also corrected an issue in the online system that was showing them an extended version of the form with additional fields they weren't required to fill out.

Comment 2: Comment received via mail on December 30, 2019:

The commenter indicated that it is sometimes difficult for someone to know if a permit is needed, and that finding, reading, and understanding the application of the regulations requires a degree of expertise. They suggest a decision key, or a similar tool within an online system to help determine the type of permit needed. They also mentioned some confusion concerning the words “scientific collecting” and what exactly that means. They suggested some revisions to the Migratory Bird and Eagle Scientific Collecting (3-200-7) and Eagle Exhibition (3-200-14) application forms to help clarify some potential perceived overlap between and to help avoid confusion in the future. With respect to 3-200-7, they pointed out that one region is requiring a museum to obtain a scientific collecting permit in order to receive a bald eagle carcass from the Service, rather than obtaining it under the museum's “Federal Eagle Exhibition” permit. They indicate this should not be the case, and suggest clarifications to the application form are needed so it's clear what permits should be issued and for what permit.

Agency Response to Comment 2: In response to the comment about information being difficult to find and confusion about what permit to get, we are continuously working to improve our websites and forms to make it easier for the public to find information. For instance, we've recently co-located all of our forms on our Migratory Bird web page at: https://www.fws.gov/birds/policies-and-regulations/permits/need-a-permit.php and provided links to instructions and FAQs directly in the application and report forms. As we continue to work to modernize the way we collect and deliver information, this should alleviate some, if not all the current difficulties in locating documents and information.

Responses to comments with regard to Form 3-200-14 are addressed in the information collection package for OMB Control Number 1018-0167.

With regard to the comment concerning overlap between the authority of Forms 3-200-14 and 3-200-7, there is no overlap between the types of activities that are authorized under these two permits. A scientific collecting permit is required to collect/salvage migratory birds and eagles from the wild. Acquisitions and transfers of eagle remains already in the possession of the Service or a permittee do not require a scientific collecting permit. An eagle exhibition permit (which is applied for using form 3-200-14), would be required to display eagle remains for educational use; and the specimen can be acquired and transferred from the Service to the museum once the specimen has been added to the list of specimens covered under that permit (which can be done via an amendment if that specimen was not on the original application). We believe the application forms and associated FAQs are pretty clear on the purpose of these two permits, but have made some minor clarifications to the Scientific Collecting application form and FAQ that may help clarify some of the concerns and confusion that have been raised by this comment. If a regional permit office is requiring a Scientific Collection permit to obtain a Bald Eagle from the Service, then the region may be in error, and you should contact your Regional Migratory Bird Permit Office to discuss this further and correct the error, if appropriate.

Falconry Database Comments—Additionally, on August 13, 2019, we published in the Federal Register (84 FR 40086) a notice of our intent to request that OMB approve the information collection requirements associated with the falconry database. In that notice, we solicited comments for 60 days, ending on October 15, 2019. Subsequently, the Service decided to incorporate those requirements into this collection as a revision, rather than request OMB approval of a new collection, because falconry activities are permitted under regulations implementing the MBTA. We reviewed and considered all comments received in response to that notice as part of this revision to OMB Control No. 1018-0022. We fully considered all substantive comments we received. Below, we have grouped our responses to comments by issue rather than by individual commenter. This avoids repetition in our responses, and benefits commenters, who will be interested in seeing other commenters' views on topics of interest, along with our responses.

We received the following comments in response to the falconry database notice:

Comment 1: Comment received via email on August 13, 2019: The commenter is not in favor of the information collecting being used for law enforcement purposes. They believe that if a falconer has a falconry license and the raptor is reported into the appropriate database, law enforcement authority ends at that point, and the authority of FWS to gather raptor harvest information ends once a WILD raptor has been legally taken and reported. They believe that if falconers wish to transfer a wild taken raptor to other properly licensed individuals, this is beyond the scope of MBTA authority. In addition, they believe the progeny of domestic bred raptors—whether pure species/subspecies or hybrids—is beyond the scope of the MBTA especially since the 2004 MBTA Revision excluded non-naturally occurring birds.

Agency Response to Comment 1: Wildlife law enforcement actions related to falconry remains important to maintain compliance with state rules and regulations regarding species of take, bird transfers and humane treatment of Falconry birds.

Comment 2: Comment received via email on August 28, 2019: In California the state bears the burden of collecting falconry data and reporting it to the USFWS.

Comment 3: Comment received via email on August 22, 2019: The state agencies could execute an annual bulk upload of all take reports to the federal system.

Agency Response to Comments 2 and 3: California has authority to collect falconry information on their own database. This collection system was approved by the Service, as it mirrors the federal 3-186 A database used by all other States. Falconry data from California have been regularly transferred to the Service to aid in review of take of falconry species and subsequent impact to wild raptor populations across State lines. All other States have decided to use the Federal 3-186A database for collection of falconry information.

Comment 4: Comment received via email on August 28, 2019: The commenter indicates that since domestically bred raptors are not wild, some of them not having seen the wild for generations, the information about them should be outside the scope of the USFWS. They believe this reporting requirement is redundant, burdensome and does not improve management of wild raptors.

Comment 5: Comment received via email on October 14, 2019: The commenter states the Service should only track raptors taken from the wild. They state that captive-bred raptors and hybrids of exotic crosses are no longer migratory birds due to their origin, that the Services classification of them is in error, and creates unnecessary burden.

Comment 6: Comment received via email on August 28, 2019: Collecting information about domestically bred and kept raptors should not be in the scope of the system.

Agency Response to Comments 4, 5 and 6: Federal and State regulations governing falconry and raptors removed from the wild consider all falconry birds “wild” regardless of the length of time in captivity or if it has been transferred to another permittee or permit type. Domestically bred raptors were from wild lineage at some point, and are for the most part, similar in appearance and behavior to wild-caught birds. Information collected on these birds assists State and Federal agencies with compliance of rules and regulations, as codified by the Migratory Bird Treaty Act, which prohibits any person from taking, possessing, purchasing, bartering, selling or offering to purchase, barter, or sell, among other things, raptors (birds of prey) protected by the Act, unless the activities are allowed by Federal permit.

Comment 7: Comment received via email on October 14, 2019: The commenter asked why, since the Service did away with the Federal Falconry Permit in 2014, it is still requiring the States to administer/maintain databases of Falconers. They comment that the new database does not enhance the user experience due to its complexity and the fact you must have internet to access it.

Agency Response to Comment 7: The latest revision of the 3-186A database has been used by State and Federal agencies to compile information regarding wild and captive bred raptors for the sport of falconry. State agencies provide falconers guidance to comply with their regulations; a part of this is to maintain current information on falconry take and disposition of falconry birds. While the new 3-186A database is internet based, some States have allowed paper forms to be submitted to falconry administrators when the internet is unavailable to the falconer. The decision to use paper forms, or other forms of data entry has been left to the States. However, due to staffing issues, some States that currently allow paper forms are transitioning to an online data entry system. If a State choses to allow the use of paper forms, the State assumes the responsibility for entering the required information into the 3-186A database system.

Comment 8: Comment received via email on October 14, 2019: The commenter suggests that the Service's overregulation of Falconry is discriminatory towards a tiny minority of sportsmen and sportswomen and they should expend their resources and efforts in data collection instead toward things like identification and regulation/registration of the owners of military assault weapons.

Agency Response to Comment 8: Thank you for your comment. Your response is helpful and will be part of the public record.

Comment 9: Comment received via email on August 16, 2019: The commenter states that there are less than 200 falconers in the United States and asked why tax payers are paying to support such a small group. They state it's a waste of taxpayer dollars, and think the program should be shut down.

Agency Response to Comment 9: Thank you for your comment. Your response is helpful and will be part of the public record.

Comment 10: Comment received via email on August 21, 2019: The commenter is a user of the online system. The commenter says the system is not user friendly. Specific complaints are missing dispositions and the random ability to view other Permittee's dispositions.

Comment 11: Comment received via email on October 15, 2019: The commenter has used both the original and new database, and finds the newer much more confusing and time consuming. They think the new system should look and work more like the old system. They also state they've lost records because the state has edited or removed them. They state there's no reason for a state to go in and edit a falconer's form. They said it's become a nightmare to use and maintain and get original records back in place within the system. They suggest what the system generates needs to be a standard looking 3-186 that a state cannot remove or edit once a registered falconer records the info in the system.

Comment 12: Comment received via postal mail on October 15, 2019: The commenter finds the online system unnecessarily cumbersome, tedious and error prone. They suggest form-based, rather than field-based data entry validation, which they feel would greatly simplify the data-entry process.

Also, they comment that the burden estimates state that 2.5 hours to complete the form. In their experience it takes approximately 30 minutes to complete a 3-186A online. However, they believe this time could be and should be reduced to approximately 10 minutes with proper website design including the use of form-based rather than field-based data entry validation.

Comment 13: Comment received via postal mail on September 17, 2019: The commenter states that the Service could enhance the utility of the information and minimize the burden of the collection of information upon the respondents if the application was made more user friendly.

Agency Response to Comments 10-13: In the quest to get the database functioning again quickly, we had to adhere to recent changes in Federal computer standards. We agree the accurate data entry for most acquisition and transfers should take 10 to 30 minutes, depending on the situation and details related to the falconry bird. At this time due to federal database standards and platform specific code, as well as resources available to us, we cannot change the 3-186A database online appearance to mimic the paper format.

Comment 14: Comment received via postal mail on August 22, 2019: The commenter asks if the database is necessary. The commenter suggests that in collaboration with the States, the Service should be monitoring falconry take to ensure that take does not exceed 5% as recommended by the USFWS in Millsap and Allen 2006.

Agency Response to Comment 14: The 3-186A database is the mechanism that the Service established to accomplish that exact task, to track the number of raptors removed from the wild annually by falconers to ensure compliance with the take limits established in the 2008 environmental assessment. The current framework, where permitting authority is delegated to the States, hinges on the ability for take to be tracked nationally via the 3-186A database. In addition, the 3-186A database provides information within and across State boundaries to allow State and Federal wildlife officials for periodic review of take of raptors used for falconry, and to be cognizant of potential impacts to wild raptors where species issues have been suggested or documented by credible data, and/or independent, peer reviewed research.

Comment 15: Comment received via postal mail on August 22, 2019: The commenter asks if the information in the database will be processed and used in a timely manner. After talking with some agency biologists, it sounds to them that there is essentially zero capacity at the state level to monitoring these databases for accuracy, compliance, or take levels among other reasons. So, they feel that the existence of the system itself is possibly unjustified. They state that since falconers are already submitting annual reports to their state F&W agency every year, they are, in effect, submitting duplicate records for no reason.

Comment 16: Comment received via postal mail on August 22, 2019: The commenter suggests that to enhance the quality, utility, and clarity of the information to be collected, the system should replace annual reporting at the state level and should be highly user-friendly. They state that due to the dysfunction of the last system, a lot of people were just submitting paper copies anyway to their state falconry staff person. They suggest the Service improve the system to provide the state agency with the necessary information while maintaining a safe and accurate database of record submissions for each permittee.

Comment 17: Comment received via postal mail on August 22, 2019: The commenter states that the Service can minimize the burden of this collection on the respondents by advising states that annual report requirements are being met by the database reporting system and are thus unnecessary.

Comment 18: Comment received via postal mail on August 22, 2019: The commenter states that the process can be streamlined by elimination of reporting by falconers because it is redundant for both falconers and state wildlife agencies to report the same information.

Agency Response to Comment 15-18: State biologists, in concert with biologists and computer specialists from the Service's Division of Migratory Birds, regularly look at data provided by falconers. When questions of accuracy, compliance or take levels are derived from information supplied by falconers, state falconry administrators reach out to falconers to maintain quality assurance. In response to questionable information, state administrators may reach out to their Wildlife Law Enforcement branch for potential follow-up with the falconer. Data submission on the 3-186A database, as well as via additional annual reporting has been considered standard practice by some states. If falconers perceive an issue with the system recognizing other permit types, they should interact with their state falconry administrator, as states vary in their insistence of other permit types being reported via the 3-186A database. Reporting requirements may vary, as each state may do what they deem appropriate for record keeping as long as those standards are within the sideboards of Federal Falconry regulations (50 CFR 21.29)

Comment 19: Comment received via postal mail on August 22, 2019: The commenter suggests the database be made to allow transfer and acquisitions between all possible legal permit types. They suggest making sure the database serves the permittee by saving all submissions and allowing the permittee to search and print all past submissions easily.

They also suggest linking the transfers, so that when one permittee fills out a transfer on the database, it will prompt that other involved permittee by email.

Comment 20: Comment received via postal mail on August 31, 2019: The commenter says the database needs a complete re-write. They state that signing in is nearly impossible, and the PDF forms are difficult to use, and often deletes their information as they are typing it. They suggest there should be a PDF 'send/save' mode where we send the PDF as an attachment, and a confirmation number/email for their records that we note the data sent on our records. They also suggest a comments section on the form is needed, and a description of the bird if it has unusual markings, etc. They state it should be easily used with any browser type.

Agency Response to Comment 19-20: Your comments are helpful as the Service and States look to improve the 3-186A database and falconry record keeping. If falconers perceive an issue with the system for access, recognizing or saving data, they should interact with their state falconry administrator, as states vary in their insistence of other permit types being reported via the 3-186A database. Reporting requirements may vary, as each state may do what they deem appropriate for record keeping as long as those standards are within the sideboards of Federal Falconry regulations (50 CFR 21.29).

Comment 21: Comment received via postal mail on August 22, 2019: The commenter suggests increasing the length of time a permittee has to report a transfer or acquisition to make it less likely that violations are a matter of plain forgetting.

Agency Response to Comment 21: Current timelines by Federal and State regulations are 10 days for the length of time necessary to report an acquisition or transfer. This requirement may vary to be more restrictive, as each State may do what they deem appropriate for record keeping as long as those standards are within the sideboards of Federal Falconry regulations (50 CFR 21.29).

Comment 22: Comment received via postal mail on October 15, 2019: The commenter is confused by some statements in the posting. The posting indicated that the service anticipated about 40 annual respondents. They state that since the 3-186A form is required for every raptor taken, release or transferred, and nearly 700 birds are taken annually, we would expect closer to 1,000 3-186A forms to be submitted every year.

Agency Response to Comment 22: We admit the error of the Service statement in the Federal Register notice and thank the commenter for pointing this out. In review of our statements, the Service was indicating the time expected to be interacting with all State falconry administrators regarding the 3-186A database. The commenter is correct on the approximate time necessary for falconers across the United States to provide their pertinent data under their permit to the states via the 3-186A database.

Comment 23: Comment received via postal mail on September 17, 2019: The commenter supports the collection of data regarding acquisition and dispositions of wild raptors used in falconry. They state that while the Environmental Assessment by Millsap, et al. found that falconry take of raptors has no impact on raptor populations, they acknowledge that comprehensive collection of this information on a nation-wide basis may be of value to biologists and historians. They state that collection of such data should also support the following functions: enforcing federal wildlife laws, protecting endangered species and managing migratory birds.

Agency Response to Comment 23: We appreciate the commenter's perspective. The 3-186A database provides information within and across State boundaries to allow State and Federal wildlife officials for periodic review of take of raptors used for falconry, and to be cognizant of potential impacts to wild raptors where species issues have been suggested or documented by credible data, and/or independent, peer reviewed research.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your that your entire comment—including your personal identifying information—may be publicly available at any time. While you can ask us in your comment to withhold your personal identifying information from public review, we cannot guarantee that we will be able to do so.

Abstract: Our Regional Migratory Bird Permit Offices use information that we collect on permit applications to determine the eligibility of applicants for permits requested in accordance with the criteria in various Federal wildlife conservation laws and international treaties, including:

(1) Migratory Bird Treaty Act (16 U.S.C. 703 et seq.).

(2) Lacey Act (18 U.S.C. 42; 16 U.S.C. 3371 et seq.).

(3) Bald and Golden Eagle Protection Act (16 U.S.C. 668 et seq.).

Service regulations implementing these statutes and treaties are in chapter I, subchapter B of title 50 of the Code of Federal Regulations (CFR). These regulations stipulate general and specific requirements that, when met, allow us to issue permits to authorize activities that are otherwise prohibited.

With the exception of Forms 3-186 and 3-186a, all Service permit applications are in the 3-200 and 3-202 series of forms, each tailored to a specific activity based on the requirements for specific types of permits. For this revision, we combined Forms 3-200-10c and 3-200-10d into one form (3-200-10c) to reduce the number of application forms and help streamline the application process. Since both forms dealt with possession for education purposes, and asked virtually the same questions of the applicant, there was no need to have separate forms. We collect standard identifier information for all permits. The information that we collect on applications and reports is the minimum necessary for us to determine if the applicant meets/continues to meet issuance requirements for the particular activity.

Proposed Revisions to This Information Collection

With this submission, we are proposing the following revisions to the existing information collection:

Transfer of Eagle Requirements to OMB Control No. 1018-0167

Information collection requirements associated with the Federal fish and wildlife permit applications and reports for both migratory birds and eagles are currently approved under a single OMB control number, 1018-0022, “Federal Fish and Wildlife Permit Applications and Reports—Migratory Birds and Eagles; 50 CFR 10, 13, 21, 22.” With this submission to OMB, we are proposing to reinstate OMB Control Number 1018-0167, “Eagle Take Permits and Fees, 50 CFR 22.” Transferring the eagle requirements back to its original information collection will facilitate easier management of the information collection requirements associated with eagles.

ePermits Initiative

The Service will request OMB approval to automate certain migratory bird permit forms. The Service's new “ePermits” initiative is an automated permit application system that will allow the agency to move towards a streamlined permitting process to reduce public burden. Public burden reduction is a priority for the Service; the Assistant Secretary for Fish, Wildlife, and Parks; and senior leadership at the Department of the Interior. The intent of the ePermits initiative is to fully automate the permitting process to improve the customer experience and to reduce time burden on respondents. This new system will enhance the user experience by allowing users to enter data from any device that has internet access, including personal computers (PCs), tablets, and smartphones. It will also link the permit applicant to the Pay.gov system for payment of the associated permit application fee.

We anticipate including the following Service forms in the ePermits system: 3-186, 3-186A, 3-200-6 through 3-200-9, 3-200-10a through 3-200-10c, 3-200-10e, 3-200-10f, 3-200-12 through 3-200-13, 3-200-67, 3-200-79, 3-200-81, 3-202-1 through 3-202-10, 3-202-12, and 3-202-17.

Falconry Program Requirements

Additionally, we propose to incorporate the information collection requirements associated with the Service's falconry program into this collection (OMB Control No. 1018-0022). Beginning in 2014, the Service passed the authority to issue permits for the practice of falconry to individual States (50 CFR 21.29; 78 FR 72830, December 4, 2013). As part of this change in authority, we required States to maintain databases of falconers authorized to conduct falconry in their States and required falconers to report transfers of falconry birds using the paper version of FWS Form 3-186A. We require each State that maintains its own database to ensure that it is compatible with the Service's database. To date, 47 States utilize the system provided by the Service. The Service's database continues to track take of birds from the wild by falconers and to maintain records of persons permitted by the States to practice falconry, as required by 50 CFR 21.29(k)(1).

The primary purpose of this database is to allow the Service to track take of raptors from the wild by falconers to ensure take does not exceed levels established in the Service's 2008 environmental assessment of the impacts of the falconry regulations on wild raptor populations. The ability to track and document the effects of the wild take of raptors by falconers remains a responsibility of the Service. The database also: (1) Provides falconers and States with the information necessary to allow the efficient movement of falconers and raptors held under falconry permits among States; and (2) ensures that falconers can formally document their experience regardless of the States in which they have resided, which is required to advance from the apprentice- to general- to master-class permit levels.

In 2018, the Service requested and received OMB approval under the Department of the Interior Fast Track generic clearance (OMB Control No. 1090-0011) to conduct usability testing of the revised/repaired application and database functionality. The revised/repairs falconry database (database) replaced a legacy system based on outdated programming. It reduced the cost to the government by eliminating the need for Service personnel to enter data for each new falconer, and simply required the entry of data for State administrators. In addition, this new database enhances the user experience by allowing them to enter data from any device that has internet access, including PCs, tablets, and smart phones. The usability testing helped the Service to address problems and recommendations prior to the database going live. We are now ready to request full OMB approval of the falconry database and the information collection requirements associated with the falconry program.

Title of Collection: Federal Fish and Wildlife Permit Applications and Reports—Migratory Birds; 50 CFR 10, 13, 21.

OMB Control Number: 1018-0022.

Form Number: FWS Forms 3-186, 3-186A, 3-200-6 through 3-200-9, 3-200-10a through 3-200-10c, 3-200-10e, 3-200-10f, 3-200-12 through 3-200-13, 3-200-67, 3-200-79, 3-200-81, 3-202-1 through 3-202-10, 3-202-12, and 3-202-17.

Type of Review: Revision of an existing information collection.

Respondents/Affected Public: Individuals; zoological parks; museums; universities; scientists; taxidermists; businesses; utilities; and Federal, State, local, and Tribal governments.

Total Estimated Number of Annual Respondents: 27,980.

Total Estimated Number of Annual Responses: 53,510.

Estimated Completion Time per Response: Varies from 15 minutes to 260 hours, depending on activity.

Total Estimated Number of Annual Burden Hours: 394,967.

Respondent's Obligation: Required to obtain or retain a benefit.

Frequency of Collection: On occasion for applications; annually or on occasion for reports.

Total Estimated Annual Nonhour Burden Cost: $491,050 (primarily associated with application processing fees).

An agency may not conduct or sponsor and a person is not required to respond to a collection of information unless it displays a currently valid OMB control number.

The authority for this action is the Paperwork Reduction Act of 1995 (44 U.S.C. 3501 et seq.).

Dated: May 14, 2020.
Madonna Baucum,
Information Collection Clearance Officer, U.S. Fish and Wildlife Service.

[FR Doc. 2020-10707 Filed 5-18-20; 8:45 am]

BILLING CODE 4333-15-P